ENVIRONMENTAL PROTECTION AGENCY

40 CFR Parts 52 and 81

[EPA-R04-OAR-2013-0173; FRL-9900-62-Region 4]

Air Quality Implementation Plan; Alabama; Attainment Plan for the Troy Area 2008 Lead Nonattainment Area

AGENCY: Environmental Protection Agency (EPA or Agency).

ACTION: Proposed rule.

SUMMARY: EPA is proposing to approve a state implementation plan (SIP) revision, submitted by the State of Alabama through the Alabama Department of Environmental Management (ADEM), to EPA on November 9, 2012, for the purpose of providing for attainment of the 2008 Lead National Ambient Air Quality Standards (NAAQS) in the Troy 2008 Lead nonattainment area (hereafter referred to as the “Troy Area” or “Area”). The Troy Area is comprised of a portion of Pike County in Alabama surrounding the Sanders Lead Company (hereafter referred to as “Sanders Lead”). EPA is proposing to approve Alabama's November 9, 2012 SIP submittal regarding the attainment plan based on Alabama's attainment demonstration for the Troy Area. The attainment plan includes the base year emissions inventory requirements, an analysis of the reasonably available control technology (RACT) and reasonably available control measures (RACM) requirements, reasonable further progress (RFP) plan, modeling demonstration of lead attainment and contingency measures for the Troy Area. This action is being taken in accordance with Clean Air Act (CAA or Act) and EPA's guidance related to lead attainment planning.

DATES: Written comments must be received on or before October 7, 2013.

ADDRESSES: Submit your comments, identified by Docket ID Number EPA-R04-OAR-2013-0173 by one of the following methods:

1. www.regulations.gov: Follow the on-line instructions for submitting comments.

2. Email: R4-RDS@epa.gov.

3. Fax: (404) 562-9019.

4. Mail: EPA-R04-OAR-2013-0173, Regulatory Development Section, Air Planning Branch, Air, Pesticides and Toxics Management Division, U.S. Environmental Protection Agency, Region 4, 61 Forsyth Street SW., Atlanta, Georgia 30303-8960.

5. Hand Delivery or Courier: Ms. Lynorae Benjamin, Chief, Regulatory Development Section, Air Planning Branch, Air, Pesticides and Toxics Management Division, U.S. Environmental Protection Agency, Region 4, 61 Forsyth Street SW., Atlanta, Georgia 30303-8960. Such deliveries are only accepted during the Regional Office's normal hours of operation. The Regional Office's official hours of business are Monday through Friday, 8:30 a.m. to 4:30 p.m., excluding Federal holidays.

Instructions: Direct your comments to Docket ID No. EPA-R04-OAR-2013-0173. EPA's policy is that all comments received will be included in the public docket without change and may be made available online at www.regulations.gov, including any personal information provided, unless the comment includes information claimed to be Confidential Business Information (CBI) or other information whose disclosure is restricted by statute. Do not submit through www.regulations.gov or email, information that you consider to be CBI or otherwise protected. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy at the Regulatory Development Section, Air Planning Branch, Air, Pesticides and Toxics Management Division, U.S. Environmental Protection Agency, Region 4, 61 Forsyth Street SW., Atlanta, Georgia 30303-8960. EPA requests that if at all possible, you contact the person listed in the FOR FURTHER INFORMATION CONTACT section to schedule your inspection. The Regional Office's official hours of business are Monday through Friday, 8:30 a.m. to 4:30 p.m., excluding Federal holidays.

FOR FURTHER INFORMATION CONTACT: Zuri Farngalo of the Regulatory Development Section, in the Air Planning Branch, Air, Pesticides and Toxics Management Division, U.S. Environmental Protection Agency, Region 4, 61 Forsyth Street, SW., Atlanta, Georgia 30303-8960. Mr. Farngalo may be reached by phone at (404) 562-9152, or via electronic mail at farngalo.zuri@epa.gov.

SUPPLEMENTARY INFORMATION:

Table of Contents

I. What action Is EPA proposing to take?

II. What is the background for EPA's proposed action?

III. What is included in Alabama's attainment plan submittal for the Troy area?

IV. What Is EPA's analysis of Alabama's submittal for the Troy area?

1. Pollutants Addressed

2. Emissions Inventory Requirements

3. Modeling

4. RACM/RACT

5. RFP Plan

6. Contingency Measures

7. Attainment Date

V. Proposed Action

VI. Statutory and Executive Order Reviews

I. What action is EPA proposing to take?

EPA is proposing to approve Alabama's SIP submittal for the Troy Area, as submitted through ADEM to EPA on November 9, 2012, for the purpose of demonstrating attainment of the 2008 Lead NAAQS. Alabama's lead attainment plan for the Troy Area includes a base year emissions inventory, a modeling demonstration of lead attainment, an analysis of RACM/RACT, a RFP plan, and contingency measures.

EPA has preliminarily determined that Alabama's attainment plan for the 2008 Lead NAAQS for the Troy Area meets the applicable requirements of the CAA and the “SIP Toolkit—Attainment Demonstrations and Air Quality Modeling,” hereafter referred to as the “SIP Toolkit,” dated April 12, 2012, located at http://www.epa.gov/air/lead/kitmodel.html. Thus, EPA is proposing to approve Alabama's attainment plan for the Troy Area. EPA's analysis for this proposed action is discussed in Section IV of this proposed rulemaking.

II. What is the background for EPA's proposed action?

On November 12, 2008 (73 FR 66964), EPA revised the Lead NAAQS, lowering the level from 1.5 micrograms per cubic meter (μg/m³) to 0.15 μg/m³ calculated over a three-month rolling average. EPA established the NAAQS based on significant evidence and numerous health studies demonstrating that serious health effects are associated with exposures to lead emissions.

Following promulgation of a new or revised NAAQS, EPA is required by the CAA to designate areas throughout the United States as attaining or not attaining the NAAQS; this designation process is described in section 107(d)(1) of the CAA. On November 22, 2010 (75 FR 71033), EPA promulgated initial air quality designations for the 2008 Lead NAAQS, which became effective on December 31, 2010, based on air quality monitoring data for calendar years 2007-2009, where there was sufficient data to support a nonattainment designation. Designations for all remaining areas were completed on November 22, 2011 (76 FR 72097), which became effective on December 31, 2011, based on air quality monitoring data for calendar years 2008-2010.

Effective December 31, 2010, the Troy Area was designated as nonattainment for the 2008 Lead NAAQS. This designation triggered a requirement for Alabama to submit a SIP revision with a plan for how the Area would attain the 2008 Lead NAAQS, as expeditiously as practicable but no later than December 31, 2015. ADEM submitted its SIP submittal for the Troy Area on November 9, 2012, which included the base year emissions inventory and the attainment demonstration. EPA's analysis of the submitted attainment demonstration includes a review of the pollutant addressed, emissions inventory requirements, modeling, RACT and RACM requirements, RFP plan, and contingency measures for the Troy Area.

III. What is included in Alabama's attainment plan submittal for the Troy area?

In accordance with section 172(c) of the CAA and the SIP Toolkit, the Alabama attainment plan for the Troy Area includes: (1) An emissions inventory for the plan's base year (2010); and (2) an attainment demonstration. The attainment demonstration includes: technical analyses that locate, identify, and quantify sources of emissions contributing to violations of the 2008 Lead NAAQS; analyses of future-year emissions reductions and air quality improvements expected to result from national and local programs; adopted emission reduction measures with schedules for implementation; and contingency measures required under section 172(c)(9) of the CAA. See 73 FR 67035.

IV. What is EPA's analysis of Alabama's attainment plan submittal for the Troy area?

A. Attainment Demonstration

Consistent with CAA requirements (see, e.g., section 172), and 40 CFR 51.117, an attainment demonstration for a lead nonattainment area must include a showing that the area will attain the 2008 Lead NAAQS as expeditiously as practicable. The demonstration must also meet the requirements of 40 CFR 51.112 and Part 51, Appendix W, and include inventory data, modeling results, and emissions reduction analyses on which the state has based its projected attainment. In the case of the Troy Area, EPA is proposing that the attainment plan submitted by Alabama is sufficient, and EPA is proposing to approve individual components of the plan.

1. Pollutants Addressed

Alabama's lead attainment plan evaluates lead emissions in the Troy Area within Pike County. There are no significant precursors to consider for the lead attainment plan.

2. Emissions Inventory Requirements

States are required under section 172(c)(3) of the CAA to develop comprehensive, accurate and current emissions inventories of all sources of the relevant pollutant or pollutants in the area. These inventories provide a detailed accounting of all emissions and emission sources by precursor or pollutant. In the November 12, 2008 Lead Standard (PDF) (99pp, 665k) rulemaking, EPA finalized the guidance related to the emissions inventories requirements. The current regulations are located at 40 CFR 51.117(e), and include, but are not limited to, the following requirements:

• States must develop and periodically update a comprehensive, accurate, current inventory of actual emissions from all source affecting ambient lead concentrations;

• The SIP inventory must be approved by EPA as a SIP element and is subject to public hearing requirements; and

• The point source inventory upon which the summary of the baseline for lead emissions inventory is based must contain allsources that emit 0.5 or more tons of lead per year.

For the base-year inventory of actual emissions, EPA recommends using either 2010 or 2011 as the base year for the contingency measure calculations, but does provide flexibility for using other inventory years if states can show another year is more appropriate.¹ For lead SIPs, the CAA requires that all sources of lead emissions in the nonattainment area must be submitted with the base-year inventory. In today's action, EPA is proposing to approve the base year emissions inventory portion of the SIP revision submitted by Alabama on November 9, 2012, as required by section 172(c)(3).

¹ See EPA document titled “Addendum to the 2008 Lead NAAQS Implementation Questions and Answers” dated August 10, 2012, included in EPA's SIP Toolkit located at http://www.epa.gov/air/lead/kitmodel.html.

The State of Alabama followed EPA's recommendation by using the year of designation (2010) as the base year in the November 9, 2012 Lead SIP. Actual emissions from all sources of lead were reviewed and compiled, as applicable and available, for the base year emissions inventory requirement. All applicable sources of lead emissions contained in the Troy nonattainment area were estimated and included in the inventory.

The only source of lead emissions above 0.5 tons per year within the Troy Area is Sanders Lead, a secondary lead smelting and refining facility which processes scrap metal and lead bearing by-products into refined lead alloys. Pursuant to 40 CFR 51.117(e), the facility is the only point source evaluated as part of this emissions inventory requirement and is therefore, the only source that is required to be evaluated as part of this attainment demonstration. In addition to complying with the 2008 Lead NAAQS, the facility is also subject to the revised Secondary Lead MACT (40 CFR Part 63, Subpart X). The facility's emissions were calculated using data collected from stack tests with the application of AP-42 emissions factors for each source, and quality assured by ADEM. ADEM used the EPA 2008 National Emissions Inventory (NEI)² to obtain estimates of the stationary area and nonroad and onroad mobile emissions for the Troy Area.

² Area sources are only required to be submitted for the NEI every three years, in accordance with the Air Emissions Reporting Rule and the most recent release is in the 2008 NEI version 2.

Stationary area source emissions, shown below in Table 1, were obtained from the Emissions Inventory System maintained by EPA which has the most current information. The nonroad emissions are negligible and therefore assumed to be zero for the purpose of this SIP, and are consistent with the nonroad 2008 model. The emissions data for the nonroad category which includes aircraft (airports), rail and commercial marine vessels was obtained from the 2008 NEI version 2. Onroad lead emissions are negligible and therefore assumed to be zero, consistent with MOVES 2010b model and the 2008 NEI. A more detailed discussion of the emissions inventory development can be found in Alabama's November 9, 2012 submittal.

Table 1 below shows the level of emissions calculated in pounds per year (lbs/year) in the Area for the 2010 base year, and by emissions source categories, as provided in Alabama's November 9, 2012 attainment plan.

Table 1—2010 and Projected 2015 Lead Emissions for the Troy Area
[Pounds per year]
Year | Onroad | Nonroad | Area | Point
2010 | 0 | 205.94 | 0.56 | 7,162
2015 | 0 | 205.94 | 0.56 | 946
Total Reduction | 0 | 0 | 0 | 6,216

EPA evaluated Alabama's 2010 base year emissions inventory for the Troy Area, and made the preliminary determination that this inventory was developed consistent with EPA's guidance for emissions inventory. Therefore, pursuant to section 172(c)(3), EPA is proposing to approve Alabama's 2010 base year emissions inventory for the Troy Area. The projected emissions for 2015 represent an 87 percent reduction from the base year lead emissions, and, as discussed in the modeling section below, provide sufficient emissions reductions for the Troy Area to attain the 2008 Lead NAAQS.

3. Modeling

The lead attainment demonstration must include air quality dispersion modeling developed in accordance with EPA's Modeling Guidance.³ The Alabama modeling analysis was prepared using EPA's preferred dispersion modeling system, the American Meteorological Society/Environmental Protection Agency Regulatory Model (AERMOD) consisting of the AERMOD (version 12060) model and two data input preprocessors AERMET (version 11059) and AERMAP (version 11103). The non-regulatory AERMINUTE (version 11325) meteorological preprocessor and AERSURFACE (version 08009) were also used to develop inputs to AERMET. The Building Profile Input Program for Plume Rise Model Enhancements was also used in the downwash-modeling and incorporated good engineering practice, and technical procedures. More detailed information on the AERMOD Modeling system and other modeling tools and documents can be found on the EPA Technology Transfer Network Support Center for Regulatory Atmospheric Modeling (SCRAM) (http://www.epa.gov/ttn/scram/) and in Alabama's November 9, 2012 SIP submittal in the docket for this proposed action (EPA-R04-OAR-2013-0173) on the www.regulations.gov Web site. A brief description of the modeling used to support Alabama's attainment demonstration follows.

³ 40 CFR Part 51 Appendix W (EPA's Guideline on Air Quality Models) (November 2005) located at http://www.epa.gov/ttn/scram/guidance/guide/appw_05.pdf.

a. Modeling Approach

The following is an overview of the Sanders Lead modeling approach used in Alabama's November 9, 2012 SIP submittal. This approach was developed by the URS Corporation, on behalf of Sanders Lead, and revised based on comments received from ADEM and EPA. The basic procedures are outlined as follows:

• Start with the most recent 2010 emissions estimates for point, area, volume and mobile sources at Sanders Lead;

• Develop model inputs using the AERMOD modeling system including the:

○ AERMOD pre-processors AERMET and AERMINUTE to process five years' (i.e., 2006-2010) 1-minute meteorological data from the National Weather Service (NWS) Montgomery, Alabama, surface level site (identified as KMGM) (the closest weather station to Sanders Lead), based on ADEM's land use classifications, in combination with upper-air meteorological data from the Birmingham, Alabama, NWS upper-air sounding site (KBMX);

○ AERMOD pre-processor AERMAP to generate terrain inputs for the receptors, based on a digital elevation mapping database from the National Elevation Dataset developed by the U.S. Geological Survey;

○ AERMOD pre-processor AERSURFACE to generate direction specific land use based surface characteristics for the modeling;

○ Define a Cartesian receptor grid across the nonattainment boundary (approximately 0.8 miles around the Sanders Lead facility), with 100 meter spacing in ambient air to ensure maximum concentrations are captured; and

○ Develop all other input options commensurate with the Regulatory Modeling Guidance.

• Perform current and post control dispersion modeling using the EPA approved AERMOD modeling system;

• Process AERMOD output through EPA's LEADPOST post processor (version 12114) deriving the maximum 3 month average rolling design value across the 5 year meteorological data period; and

• Document the results in a report suitable for inclusion as an appendix for the Troy Area Lead SIP.

b. Modeling Results

The Lead NAAQS compliance results of the attainment modeling are summarized in Table 2 below. Table 2 presents the results from the two sets of AERMOD modeling runs that were performed. The two modeling runs were the result of using two different five-year (2006-2010) meteorological datasets based on AERSURFACE-developed surface characteristics representative of the NWS site in Montgomery, Alabama (NWS MET Data). The first and second rows of Table 2 present the surface characteristics representative of the Sanders Lead facility site (Facility MET Data). This procedure was used since on-site meteorological data was not available. Modeling with the two sets of data was also used since on-site meteorological data are not available at the Sanders Lead facility.

A background ambient air quality concentration is required to be added to the modeled concentrations for the purpose of developing a lead design value, such that attainment of the control strategy is demonstrated. The background concentration for the SIP was based on speciated air quality data from the Montgomery, Alabama airport monitor (site number 01-101-1002) from the last two months of 2005 and the years 2006-2010. The data is recorded and collected once every 6th day. Monthly averages of the data from this period were obtained and used to develop the 3-month rolling averaged concentrations. The highest of the 3-month averaged concentrations (i.e., 0.009 µg/m³) was used in the modeled compliance test (see column 3 of Table 2).

As can be seen in Table 2, the maximum 3-month rolling average across all five years of meteorological data (2006-2010) is less than or equal to the 2008 Lead NAAQS of 0.15 μg/m³ for both sets of AERMOD modeling runs. Output from the LEADPOST processor which details all of the concentrations can be found in Appendix G of Alabama's November 9, 2012 SIP submittal.

Table 2—Post-Control Modeling Results ⁴
Sanders lead facility impacts | Max 3-mth rolling average | Background concentration | Total concentration | NAAQS | Year maximum occurred
Post-Construction ([NWS] MET Data) | 0.144 μg/m³ | 0.009 μg/m³ | 0.15 μg/m³ | 0.15 μg/m³ | 2010
Post-Construction (Facility MET Data) | 0.139 μg/m³ | 0.009 μg/m³ | 0.15 μg/m³ | 0.15 μg/m³ | 2010

The pre-control analysis resulted in a predicted impact of 5.30 μg/m³ (NWS MET data) and 3.64 μg/m³ (Facility MET data). The post-control analysis resulted in a predicted impact of 0.15 μg/m³ (NWS MET data) and 0.15 μg/m³ (Facility MET data). This data indicates significant reductions in air quality impact with the future implementation of the post-construction control plan for the Sanders Lead facility. This data also supports that the controls represent RACM and RACT for the SIP. The control strategy for the facility as reflected in its Air Permit No. 210-0005 includes enclosure of the furnace building and installation of canopy hoods over each blast furnace and compliance with the Secondary Lead MACT (40 CFR Part 63, Subpart X). More details on the pre- and post-construction operations at the facility are included in the Alabama SIP. Therefore, on this basis, ADEM asserted that the proposed controls are RACM/RACT and should be sufficient to attain 2008 Lead NAAQS.

⁴ Final results listed in Table 2 are rounded according to 40 CFR part 50, Appendix R; specifically subsection 4(a) which addresses comparison with the Lead NAAQS, as well as 5(a), (b), and (c) which addresses rounding conventions.

EPA has reviewed the modeling that Alabama submitted to support the attainment demonstration for the Troy Area and has preliminarily determined that this modeling is consistent with CAA requirements, Appendix W and EPA guidance for lead attainment demonstration modeling.

4. RACM/RACT

a. Requirements for RACM/RACT

CAA section 172(c)(1) requires that each attainment plan provides for the implementation of all reasonably available control measures as expeditiously as practicable and attainment of the NAAQS. EPA interprets RACM, including RACT, under section 172, as measures that a state determines to be both reasonably available and contribute to attainment as expeditiously as practicable in the nonattainment area. A comprehensive discussion of the RACM/RACT requirement for lead attainment plans and EPA's guidance can be found in the SIP Toolkit.

b. Alabama's Analysis of Pollutants and Sources for the Troy Area

Alabama's analysis is found in Chapter 6 of the November 9, 2012 SIP submittal. The State determined that controls for lead emissions at Sanders Lead are appropriate in the Troy Area for purposes of attaining the 2008 Lead NAAQS. EPA preliminarily agrees that Alabama's determination is supported by its analysis.

c. Alabama's Evaluation of RACM/RACT Control Measures for the Troy Area

On November 9, 2012, Air Permit No. 210-0005 was issued to Sanders Lead for additional proposed control measures to reduce lead emissions. The Title V permit reflecting RACT controls is included in Appendix F of the November 9, 2012 SIP submittal. In accordance with the schedule in the Title V permit, Sanders Lead was required to implement the controls on or before July 1, 2013. ADEM represented to EPA that Sanders Lead has completed implementation of the RACT controls listed in the permit and summarized in Table 3 below:

Table 3—Summary of RACT Controls ⁵
Description of measure | Explanation
Control and Enclose Furnace Operations | Sanders Lead is proposing to install canopy hoods over each blast furnace with supply air to reduce worker lead exposures. Additionally, the furnace building will be enclosed. A new 318,000 cubic feet per minute (CFM) baghouse followed by high-efficiency particulate air (HEPA) filters will be installed to control emissions captured by the new hoods and building enclosure (including the kettle basement ventilation).
Control and Enclose Refining Operations | Sanders Lead is proposing to enclose the refining building, including the elimination of sidewall fans. Area ventilation will be provided by the new 318,000 CFM baghouse discussed above.
Combustion gases and Refining Kettle Hoods | Sanders Lead is proposing to control the combustion gases and kettle hoods with a new 60,000 actual cubic feet per minute (ACFM) baghouse (with HEPAs).
Relocate Industrial Battery Decasing and Enclose Raw Material Handling Operations | Sanders Lead is proposing to relocate the industrial battery decasing operations to the inside of the existing raw material storage building. A new 60,000 ACFM collector with HEPA filters will be installed to control industrial battery decasing and raw material storage area.
Battery Breaker/Shredder Operations | Sanders Lead is proposing to enclose the Shredder Building and install a new 12,000 ACFM wet scrubber to control acid emissions from specific point locations within the Shredder Building. The exhaust from this scrubber along with building exhaust will be exhausted through a new 60,000 ACFM bag collector (with HEPAs).
Enclose Baghouse Hoppers and Transport of Dust | Sanders Lead is proposing to enclose the base of baghouses #1 and #5, including the access doors and removable panels on the units. Ventilation will be provided by ducting to existing baghouses.
Improve Process Material Transport to Eliminate Leaded Outdoor Traffic | In order to eliminate leaded outdoor traffic, Sanders Lead is proposing to install building connection tunnel for the transport of material from shredder to the raw material storage building.
Relocate and Contain Leaded Vehicle Maintenance | Sanders Lead is proposing to install transfer points at the refining, smelting and raw material storage vehicle exits to maintain “leaded” vehicles inside the building. Sanders Lead is proposing to relocate leaded vehicle maintenance to a newly enclosed constructed area.
Improved Watering | Sanders Lead is proposing to develop an updated watering plan based on the new vehicle patterns and facility layout. The watering plan will include an improved floor wetting system inside and outside the building, as well as purchasing new wet sweepers for the outside buildings.

d. Proposed Action on RACM/RACT Demonstration and Control Strategy

⁵ Table found in the Title V permit.

EPA is proposing to approve Alabama's determination that the proposed controls for lead emissions at Sanders Lead constitute RACM/RACT for that source in the Troy Area based on our analysis described above. Further, as summarized above, EPA proposes that no further controls would be required at Sanders Lead and that the proposed controls are sufficient for RACM/RACT purposes for the Troy Area, at this time.

Since the Troy Area is projected to attain the 2008 Lead NAAQS by the 2015 attainment date, and at this time, no additional measures could be adopted to attain one year sooner, EPA proposes to approve Alabama's November 9, 2012 SIP submission as meeting the RACM/RACT requirements of the SIP Toolkit and that the level of control in the State's submission constitutes RACM/RACT for purposes of the 2008 Lead NAAQS. By approving these control measures as RACM/RACT for Sanders Lead for purposes of Alabama's attainment planning, these control measures will become permanent and enforceable SIP measures to meet the requirements of the CAA and 2008 Lead NAAQS.

5. RFP Plan

Section 172(c)(2) of the CAA requires that an attainment plan includes a demonstration that shows reasonable further progress for meeting air quality standards will be achieved through generally linear incremental improvement in air quality. As stated in the final Lead Rule (73 FR 67039), EPA concluded that it was appropriate that RFP requirements be satisfied by the strict adherence to an ambitious compliance schedule, which is expected to periodically yield significant emission reductions. The control measures for attainment of the 2008 Lead NAAQS included in Chapter 6 of the State's submittal have been modeled to achieve attainment of the 2008 Lead NAAQS. The stipulations require these control measures and resulting emissions reductions to be achieved as expeditiously as practicable. As a result of an ambitious compliance schedule, yielding a significant reduction in lead emissions from the Sanders Lead facility and resulting in modeled attainment of the NAAQS, EPA has preliminarily determined that ADEM's lead attainment plan for the 2008 Lead NAAQS fulfills the RFP requirements for the Troy Area. EPA, therefore, proposes to approve the State's attainment plan with respect to the RFP requirements.

6. Contingency Measures

In accordance with section 172(c)(9) of the CAA, contingency measures are required as additional measures to be implemented in the event that an area fails to meet the RFP requirements or fails to attain a standard by its attainment date. These measures must be fully adopted rules or control measures that can be implemented quickly and without additional EPA or state action if the area fails to meet RFP requirements or fails to meet its attainment date and should contain trigger mechanisms and an implementation schedule. In addition, they should be measures not already included in the SIP control strategy for attaining the standard and should provide for emission reductions equivalent to one year of RFP.

Based on all the improvements that are planned for Sanders Lead, ADEM believes that the 2008 Lead NAAQS can be achieved on a consistent basis. However, if an exceedance of the NAAQS occurs during any three month period after July 2013 (the deadline for full implementation of the control strategy), within 180 days, Sanders Lead will submit an investigative study identifying the source(s) of excessive emissions contributing to the exceedance and will develop and prepare a strategy to eliminate the likelihood of another exceedance. This strategy will contain a plan identifying which stack or stacks will be raised and to what extent. Within 18 months of the NAAQS violation(s), these measures will be fully implemented. Potential controls which may provide some additional reductions include:

(1) Adding a second gate on the south end of the property in order to direct significant traffic flow to an area further away from the maximum lead impact areas;

(2) planting vegetation in specific areas to help control dust flow patterns and scavenge fugitive lead emissions;

(3) re-evaluating material handling procedures, patterns, etc., to determine if improvements can be made;

(4) re-evaluating housekeeping procedures, including dust sweeping and collection equipment; and

(5) implementing other improvements that may become evident based on potential source(s) of lead emissions identified during investigation.

EPA proposes that the contingency measures submitted by Alabama meet the section 172(c)(9) requirements for the 2008 Lead NAAQS.

7. Attainment Date

Alabama provided a demonstration attainment of the 2008 Lead NAAQS for the Troy Area by no later than five years after the Area was designated nonattainment. The modeling indicates that the Troy Area will attain the 2008 Lead NAAQS by December 31, 2015, and therefore, EPA is proposing to approve the State's attainment date.

V. Proposed Action

EPA is proposing to approve Alabama's lead attainment plan for the Troy Area. EPA has preliminarily determined that the SIP meets the applicable requirements of the CAA. Specifically, EPA is proposing to approve Alabama's November 9, 2012 SIP submission, which includes the attainment demonstration, base year emissions inventory, RACM/RACT analysis, contingency measures and RFP plan. The requirement for a RFP plan is satisfied because Alabama demonstrated that the Area will attain the 2008 Lead NAAQS by the proposed attainment date of December 31, 2015.

VI. Statutory and Executive Order Reviews

Under the CAA, the Administrator is required to approve a SIP submittal that complies with the provisions of the Act and applicable Federal regulations. 42 U.S.C. 7410(k); 40 CFR 52.02(a). Thus, in reviewing SIP submissions, EPA's role is to approve state choices, provided that they meet the criteria of the CAA. Accordingly, this proposed action merely approves state law as meeting Federal requirements and does not impose additional requirements beyond those imposed by state law. For that reason, this proposed action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, October 7, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

In addition, this proposed rule does not have tribal implications as specified by Executive Order 13175 (65 FR 67249, November 9, 2000), because the SIP is not approved to apply in Indian country located in the State, and EPA notes that it will not impose substantial direct costs on tribal governments or preempt tribal law.

List of Subjects

40 CFR Part 52

Environmental protection, Air pollution control, Incorporation by reference, Intergovernmental relations, Lead, Reporting and recordkeeping requirements.

40 CFR Part 81

Environmental protection, Air pollution control.

Authority: 42 U.S.C. 7401 et seq.

Dated: August 22, 2013.
Beverly H. Banister,
Acting Regional Administrator, Region 4.

[FR Doc. 2013-21781 Filed 9-5-13; 8:45 am]

BILLING CODE 6560-50-P